FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than October 30, 2012.

A. Federal Reserve Bank of San Francisco (Kenneth Binning, Vice President, Applications and Enforcement) 101 Market Street, San Francisco, California 94105-1579:

1. Thomas Galt Atwood, Glen Ellen, California, and Cypress Abbey Company, Colma, California: to retain 10 percent or more of the outstanding shares of capital stock of FNB Bancorp, and thereby indirectly retain 10 percent or more of the voting shares of First National Bank of Northern California, both of South San Francisco, California.

Board of Governors of the Federal Reserve System, October 12, 2012.
Robert deV. Frierson,
Secretary of the Board.

[FR Doc. 2012-25511 Filed 10-16-12; 8:45 am]

BILLING CODE 6210-01-P